NATIONAL AERONAUTICS AND SPACE ADMINISTRATION

[Notice (00-018)]

National Environmental Policy Act; Sounding Rocket Program

AGENCY: National Aeronautics and Space Administration (NASA).

ACTION: Notice of availability of the final supplemental environmental impact statement (FSEIS) for the Sounding Rocket Program (SRP).

SUMMARY: Pursuant to the National Environmental Policy Act of 1969 (NEPA), as amended (42 U.S.C. 4321 et seq.), the Council on Environmental Quality Regulations for Implementing the Procedural Provisions of NEPA (40 CFR parts 1500-1508), and NASA policy and procedures (14 CFR part 1216 subpart 1216.3), NASA has prepared and issued a FSEIS for continuation of its SRP, which offers approximately 30 flight opportunities per year to space scientists. The FSEIS addresses environmental issues associated with the launch and recovery of the sounding rockets and/or associated scientific payloads. The purpose of the launches is to support space and earth science research. This FSEIS addresses the programmatic changes to the SRP that have occurred since the issuance of the 1973 final environmental impact statement (FEIS) for the NASA SRP and analyzes the site-specific environmental impacts at the three principal U.S. launch sites located at: Wallops Flight Facility, Wallops Island, Virginia; Poker Flat Research Range near Fairbanks, Alaska; and White Sands Missile Range, New Mexico.

DATES: NASA will take no final action or reach a final decision on continuation of the SRP program and use of Wallops Flight Facility, Wallops Island, Virginia, White Sands Missile Range, New Mexico, and Poker Flat Research Range, Alaska before March 20, 2000 or 30 days from the date of publication in the Federal Register of the U.S. Environmental Protection Agency's notice of availability of the SRP FSEIS, whichever is later.

ADDRESSES: The FSEIS may be reviewed at the following locations:

(a) NASA Headquarters, Library, Room 1J20, 300 E Street SW., Washington, DC 20546 (202-358-0167).

(b) NASA, Goddard Space Flight Center/Wallops Flight Facility, Public Affairs Office, Wallops Island, VA 23337 (757-824-1579).

(c) Eastern Shore Public Library, Accomac, VA (757-787-3400).

(d) University of Alaska-Fairbanks Library, Fairbanks, AK (907-474-7224).

(e) Alamogordo Library, Alamogordo, NM (505-439-4140).

(f) Jet Propulsion Laboratory, Visitors Lobby, Building 249, 4800 Oak Grove Drive, Pasadena, CA 91109 (818-354-5179).

(g) NASA, Spaceport USA, Room 2001, John F. Kennedy Space Center, FL 32899. Please call Lisa Fowler beforehand at 407-867-2497 so that arrangements can be made.

In addition, the FSEIS may be examined at the following NASA locations by contacting the pertinent Freedom of Information Act Office:

(a) NASA, Ames Research Center, Moffett Field, CA 94035 (650-604-4191).

(b) NASA, Dryden Flight Research Center, P.O. Box 273, Edwards Air Force Base, CA 93523 (661-258-3449).

(c) NASA, Glenn Research Center at Lewis Field, 21000 Brookpark Road, Cleveland, OH 44135 (216-433-2755).

(d) NASA, Goddard Space Flight Center, Greenbelt, MD 20771 (301-286-0730).

(e) NASA, Johnson Space Center, Houston, TX 77058 (281-483-8612).

(f) NASA, Langley Research Center, Hampton, VA 23665 (757-864-2497).

(g) NASA, Marshall Space Flight Center, Huntsville, AL 35812 (256-544-2030).

(h) NASA, Stennis Space Center, MS 39529 (228-688-2164).

Limited copies of the FSEIS are available, on a first request basis, by contacting William B. Johnson at the address, telephone number, or electronic mail address provided below.

FOR FURTHER INFORMATION CONTACT: William B. Johnson, Code 810, NASA, Goddard Space Flight Center, Wallops Flight Facility, Wallops Island, Virginia, 23337; telephone 757-824-1099; electronic mail (william.b.johnson.1@gsfc.nasa.gov).

SUPPLEMENTARY INFORMATION: The NASA SRP is a suborbital spaceflight program primarily in support of space and earth sciences research activities sponsored by NASA. This program also provides applicable support to other government agencies as well as international sounding rocket groups and scientists. The program is a relatively low-cost, quick response effort. These experiments provide a variety of information, including high-altitude wind shear and velocity, density and temperature or particles in the upper atmosphere, and changes in the ionosphere. Sounding rocket payloads also yield valuable data on the natural conditions surrounding the Earth, Sun, stars, galaxies, nebulas, planets, and other phenomena.

NASA uses sounding rockets to allow scientists to conduct investigations at specified times and altitudes. Sounding rockets fly vertical flight trajectories from 48 kilometers (30 miles) to over 1,290 kilometers (800 miles) in altitude. Sounding rockets provide the only means for in situ measurements at altitudes between the maximum altitude of balloons (about 48 kilometers (30 miles)) and the minimum altitude for satellites (about 160 kilometers (100 miles)). The flight normally lasts less than 30 minutes. All of the motors used in the program use solid fuel and are relatively small.

The proposed action and NASA's preferred alternative is the continued operation of the NASA SRP, as presently managed. The FSEIS focuses on programmatic changes in the NASA SRP that have taken place since the original FEIS was issued in 1973 by deleting launch vehicles that are no longer used, adding new launch vehicles and systems currently being used, and reflecting changes in Federal and State environmental statutes and regulations. The FSEIS addresses both the overall environmental impacts of the SRP and the site-specific environmental impacts at and in the area of the three principal domestic sounding rocket sites: Wallops Flight Facility, Wallops Island, Virginia; White Sands Missile Range, White Sands, New Mexico; and Poker Flat Research Range near Fairbanks, Alaska. NASA investigated alternatives to sounding rockets; alternatives to current propellants; and alternatives to the launch sites at Wallops Island, Virginia, White Sands, New Mexico, and Poker Flat, Alaska. No alternative to the sounding rocket could provide the same quality of scientific data. Alternative propellants are impractical since they would result in decreased performance, generate other pollutants, or present other physical dangers. Launching at other than the established U.S. ranges on a continual basis is not practical since it would increase adverse environmental impacts due to construction activities without realizing any operational or environmental advantages.

Some sounding rocket campaigns are conducted at other U.S. sites and at foreign locations. Prior to deciding whether to conduct sounding rocket campaigns at sites other than the three specifically addressed in the FSEIS, NASA will undertake additional site-specific environmental review and documentation, as appropriate.

Comments on the draft supplemental environmental impact statement were solicited from Federal, State and local agencies, organizations, and the general public through: (a) Notices published in the Federal Register—NASA notice on June 12, 1995 (60 FR 30901), and U.S. Environmental Protection Agency notice on June 16, 1995 (60 FR 31716); and (b) notices in newspapers of general circulation in areas potentially subject to environmental impacts. Comments received have been addressed in the FSEIS.

Jeffrey E. Sutton,
Associate Administrator for Management Systems.

[FR Doc. 00-3808 Filed 2-16-00; 8:45 am]

BILLING CODE 7510-01-P